DEPARTMENT OF AGRICULTURE

Forest Service

Notice of Mineral County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Lolo National Forest's Mineral County Resource Advisory Committee will meet on June 3 at 6 p.m. until 8 p.m. in Superior, Montana for a business meeting. The meeting is open to the public.

DATES: June 3, 2003.

ADDRESSES: The meeting will be held at the Mineral County Courthouse, 300 River Street, Superior, MT 59872.

FOR FURTHER INFORMATION CONTACT: Robert Harper, Designated Forest Official (DFO), District Ranger, Superior Ranger District, Lolo National Forest, at (406) 822-4233.

SUPPLEMENTARY INFORMATION: Agenda topics for these meetings include the review and selection of project proposals, as authorized under Title II of Pub. L. 106-393. If the meeting location is changed, notice will be posted in local newspapers, including the Mineral Independent, the Clark Fork Wagon Wheel, and the Missoulian.

Dated: May 23, 2003.
Deborah L.R. Austin,
Designated Federal Official.

[FR Doc. 03-14174 Filed 6-2-03; 3:32 pm]

BILLING CODE 3410-11-M